DEPARTMENT OF THE TREASURY

Fiscal Service

Surety Companies Acceptable on Federal Bonds: Liquidation—Statewide Insurance Company

AGENCY: Financial Management Service, Fiscal Service, Department of the Treasury.

ACTION: Notice.

SUMMARY: Liquidation of an insurance company formerly certified by this Department as an acceptable surety/reinsurer on Federal bonds.

FOR FURTHER INFORMATION CONTACT: Surety Bond Branch at (202) 874-6850.

SUPPLEMENTARY INFORMATION: Statewide Insurance Company, an Illinois company, formerly held a Certificate of Authority as an acceptable surety on Federal bonds and was last listed as such at 66 FR 35056, July 2, 2001. The Company's authority was terminated by the Department of the Treasury effective April 11, 2002. Notice of the termination was published in the Federal Register of April 23, 2002, on page 19806.

On January 6, 2004, upon a petition by the Director of Insurance of the State of Illinois, the Circuit Court of Illinois issued an Order of Liquidation with respect to Statewide Insurance Company. J. Anthony Clark, Director of Insurance of the State of Illinois, and his successors in office, were appointed as the Liquidator. All persons having claims against Statewide Insurance Company must file their claims by January 6, 2005, or be barred from sharing in the distribution of assets.

All claims must be filed in writing and shall set forth the amount of the claim, the facts upon which the claim is based, any priorities asserted, and any other pertinent facts to substantiate the claim. Federal Agencies should assert claim priority status under 31 U.S.C. 3713, and send a copy of their claim, in writing, to: Department of Justice, Civil Division, Commercial Litigation Branch, P.O. Box 875, Ben Franklin Station, Washington, DC 20044-0875, Attn: Ms. Jennifer Blackwell, Legal Assistant.

The above office will consolidate and file any and all claims against Statewide Insurance Company, on behalf of the United States Government. Any questions concerning filing of claims may be directed to Ms. Blackwell at (202) 307-1114.

The Circular may be viewed and downloaded through the Internet (http://www.fms.treas.gov/c570). A hard copy may be purchased from the Government Printing Office (GPO), Subscription Service, Washington, DC, (202) 512-1800. When ordering the Circular from GPO, use the following stock number 769-004-04643-2.

Questions concerning this notice may be directed to the U.S. Department of the Treasury, Financial Management Service, Financial Accounting and Services Division, Surety Bond Branch, 3700 East-West Highway, Room 6F07, Hyattsville MD 20782.

Dated: May 3, 2004.
Vivian Cooper,
Director, Financial Accounting and Services Division, Financial Management Service.

[FR Doc. 04-10835 Filed 5-12-04; 8:45 am]

BILLING CODE 4810-35-M